DEPARTMENT OF TRANSPORTATION

Federal Highway Administration

Major Investment Study/Scoping Process and Environmental Impact Statement: Butler, Hamilton, Miami, Montgomery, and Warren Counties, Ohio and Kenton County, KY

AGENCY: Federal Highway Administration (FHWA), DOT in conjunction with Federal Transit Administration (FTA), DOT.

ACTION: Notice of intent.

SUMMARY: The FHWA is issuing this notice to advise the public that the I-75 Corridor Major Investment Study (MIS) will serve as the formal scoping process for the preparation of one or more environmental documents—environmental assessment(s) (EA) and/or environmental impact statement(s) (EIS)—which may be prepared for proposed transportation improvements in one or more of the listed counties in Ohio and Kentucky as detailed above.

FOR FURTHER INFORMATION CONTACT: Mark L. Vonder Embse, Urban Programs Engineer, Federal Highway Administration, 200 North High Street, Room 328, Columbus, Ohio 43215, Telephone: (614) 280-6854.

SUPPLEMENTARY INFORMATION: The FHWA, in cooperation with the Ohio Department of Transportation (ODOT), the Kentucky Transportation Cabinet (KYTC), the Ohio-Kentucky-Indiana Regional Council of Governments (OKI), and the Miami Valley Regional Planning Commission (MVRPC), are conducting an MIS. The study will focus on the primary north/south transportation corridor through the Cincinnati and Dayton urban areas, bounded by Boone County south of the Ohio River to the City of Piqua 85 miles north of the Ohio River. The outcome of the I-75 Corridor MIS will be to identify various regional transportation strategies for improving the safety and efficiency of the existing transportation system operating mainly along I-75 and adjacent roadways from south of Cincinnati to north of Dayton, Ohio. The I-75 Corridor MIS will analyze a wide range of potential transportation improvements including: (1) Take no action; (2) Transportation System Management (TSM)/ Transportation Demand Management (TDM) strategies to improve the existing system and minimize existing/future travel demand with minimal new construction; (3) construct various highway improvements (e.g., additional capacity (lanes), new ramps or interchanges on new or existing alignment(s)); (4) freight rail improvements; and (5) transit improvements.

Letters describing the MIS process and soliciting comments and participation in the study will be sent to appropriate Federal, State, regional and local agencies, and to private organizations and citizens who have previously expressed or are known to have interest in this project. A wide range of public involvement activities, including a series of public meetings and forums, will be held in the study and beginning with a formal public scoping meeting.

To ensure that the full range of issues related to this proposed action(s) are addressed and all significant issues identified, comments and suggests are invited from all interested parties. Comments or questions concerning this MIS, the scoping process or the range of proposed future action(s), including the preparation of any environmental document(s) should be directed to the FHWA at the address provided above.

(Catalog of Federal Domestic Assistance Program Number 20.205, Highway Planning and Construction. The regulations implementing Executive Order 12372 regarding intergovernmental consultation on Federal programs and activities apply to this program)
Issued on: May 23, 2000.
Mark L. Vonder Embse,
Urban Programs Engineer, Federal Highway Administration, Columbus, Ohio.

[FR Doc. 00-13679 Filed 5-31-00; 8:45 am]

BILLING CODE 4910-22-P